MILLENNIUM CHALLENGE CORPORATION

[FR 04-05]

Public Outreach Meeting

AGENCY: Millennium Challenge Corporation.

ACTION: Notice.

SUMMARY: The Millennium Challenge Corporation (“MCC”) will hold a public outreach meeting on May 3, 2004. The MCC Interim CEO and MCC staff will update interested members of the public on MCC operations to date and discuss upcoming MCC activities, including the consideration by the MCC Board of Directors on May 6, 2004 of countries that will be eligible for Millennium Challenge Account assistance in FY2004 under the Millennium Challenge Act of 2003 (Pub. L. 108-199, Division D).

DATES: May 3, 2004, 2-3 p.m.

ADDRESSES: General Services Administration, main auditorium, 1800 F Street, NW., Washington, DC.

FOR FURTHER INFORMATION CONTACT: Information on the meeting may be obtained from Shirley Puchalski at (703) 875-7337.

SUPPLEMENTARY INFORMATION: Due to security requirements at the meeting location, all individuals wishing to attend the meeting are encouraged to arrive at least 20 minutes before the meeting begins and must comply with all relevant security requirements of the General Services Administration. Seating will be available on a first come, first served basis. (Section 614, Public Law 108-199, Division D.)

Dated: April 27, 2004.
Jon A. Dyck,
Vice President and General Counsel, Millennium Challenge Corporation.

[FR Doc. 04-9933 Filed 4-29-04; 8:45 am]

BILLING CODE 9210-01-P